SMALL BUSINESS ADMINISTRATION

Reporting and Recordkeeping Requirements Under OMB Review

AGENCY: U.S. Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before December 31, 2025.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Interim Agency Clearance Officer at Shauniece.Carter@sba.gov; (202) 921-2198, or from www.reginfo.gov/public/do/PRAMain.

SUPPLEMENTARY INFORMATION: The Small Business Regulatory Enforcement Fairness Act of 1966, 15 U.S.C. 657(b)(2)(B), requires the SBA National Ombudsman to establish a means for SBA to receive comments on regulatory and compliance actions from small entities regarding their disagreements with a Federal Agency action. The Ombudsman uses it to obtain the agency's response, encourages a fresh look by the agency at a high level, and build a smaller business-friendly regulatory environment. The form has been updated to include several key enhancements aimed at improving clarity and user protection. Instructions have been modified for ease of use and to guide small business entities through the completion process. A non-retaliation policy has been incorporated to reinforce SBREFA protections for small business entities who choose to submit a comment and to emphasize the Office of the National Ombudsman's commitment to a safe and supportive environment. Additionally, the confidentiality clause has been revised to provide clear language and reflect the appropriate statutes governing confidentiality.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

OMB Control No: 3245-0313.

Title: Federal Agency Comment Form.

Description of Respondents: Small Business Owners.

Form Number: SBA Form 1993.

Total Estimated Annual Responses: 1,000.

Total Estimated Annual Hour Burden: 333.

Shauniece Carter,
Interim Agency Clearance Officer.

[FR Doc. 2025-22266 Filed 12-5-25; 8:45 am]

BILLING CODE 8026-09-P